DEPARTMENT OF EDUCATION

Notice of Submission for OMB Review; Institute of Education Sciences; Baccalaureate and Beyond Longitudinal Study 2008/12 (B&B:08/12) Full Scale

SUMMARY: This request for OMB approval is to conduct a second follow-up full scale data collection for the Baccalaureate and Beyond Longitudinal Study of 2008/2012 from July 2012 through March 2013.

DATES: Interested persons are invited to submit comments on or before June 1, 2012.

ADDRESSES: Written comments regarding burden and/or the collection activity requirements should be electronically mailed to ICDocketMgr@ed.gov or mailed to U.S. Department of Education, 400 Maryland Avenue SW, LBJ, Washington, DC 20202-4537. Copies of the proposed information collection request may be accessed from http://edicsweb.ed.gov, by selecting the “Browse Pending Collections” link and by clicking on link number 04844. When you access the information collection, click on “Download Attachments” to view. Written requests for information should be addressed to U.S. Department of Education, 400 Maryland Avenue SW, LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

SUPPLEMENTARY INFORMATION: Section 3506 of the Paperwork Reduction Act of 1995 (44 U.S.C. chapter 35) requires that Federal agencies provide interested parties an early opportunity to comment on information collection requests. The Director, Information Collection Clearance Division, Privacy, Information and Records Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: Baccalaureate and Beyond Longitudinal Study 2008/12 (B&B:08/12) Full Scale.

OMB Control Number: 1850-0729.

Type of Review: Revision.

Total Estimated Number of Annual Responses: 16,464.

Total Estimated Number of Annual Burden Hours: 8,283.

Abstract: The primary purpose of the B&B series of studies is to describe the various paths of recent college graduates into employment and additional education. Baseline data for the B&B:08 cohort were collected as part of the National Postsecondary Student Aid Study. The first follow-up interview (B&B:08/09) collected information from respondents one year after they received their bachelor's degree; the second follow-up (B&B:08/12) will collect data four years after bachelor's degree receipt. Interview data will be supplemented with a variety of administrative data sources, including the Central Processing System, the National Student Loan Data System, and the National Student Clearinghouse.

Dated: April 26, 2012.
Darrin A. King,
Director, Information Collection Clearance Division, Privacy, Information and Records Management Services, Office of Management.

[FR Doc. 2012-10623 Filed 5-1-12; 8:45 am]

BILLING CODE 4000-01-P